DEPARTMENT OF THE INTERIOR

Bureau of Land Management

Colorado: Filing of Plats of Survey

December 31, 2008.

SUMMARY: The plats of survey of the following described land will be officially filed in the Colorado State Office, Bureau of Land Management, Lakewood, Colorado, effective 10 a.m., December 31, 2008. All inquiries should be sent to the Colorado State Office (CO-956), Bureau of Land Management, 2850 Youngfield Street, Lakewood, Colorado 80215-7093.

The plat, and field notes, of the dependent resurveys and surveys in Township 4 North, Range 72 West, Sixth Principal Meridian, Colorado, were accepted on October 30, 2008.

The supplemental plat of Sections 28 and 33 in Township 5 South, Range 99 West, Sixth Principal Meridian, Colorado, was accepted on October 10, 2008.

The plats and field notes, of the dependent resurvey of certain lines in Township 8 North, Range 100 West and Township 9 North, Range 101 West, Sixth Principal Meridian, Colorado, were accepted on November 20, 2008.

The plat, and field notes, of the dependent resurvey, in Township 8 North, Range 95 West, Sixth Principal Meridian, Colorado, were accepted on December 9, 2008.

The plat, of the entire record, of the corrective dependent resurvey, in Township 2 South, Range 98 West, Sixth Principal Meridian, Colorado, was accepted on December 17, 2008.

The plat, and field notes, of the dependent resurvey and section subdivision of Sections 27 and 28, Township 46 North, Range 8 East, New Mexico Principal Meridian, Colorado, were accepted on December 22, 2008.

The plat and field notes, of the dependent resurvey of the east boundary and a portion of the subdivisional lines in Township 42 North, Range 13 West, New Mexico Principal Meridian, Colorado, were accepted on December 22, 2008.

Randall M. Zanon,
Chief Cadastral Surveyor for Colorado.

[FR Doc. E9-514 Filed 1-13-09; 8:45 am]

BILLING CODE 4310-JB-P